DEPARTMENT OF TRANSPORTATION

Federal Aviation Administration

14 CFR Part 71

[Docket No. FAA-2018-0713; Airspace Docket No. 18-AWP-10]

RIN 2120-AA66

Proposed Amendment of Air Traffic Service (ATS) Routes; Western United States

AGENCY: Federal Aviation Administration (FAA), DOT.

ACTION: Notice of proposed rulemaking (NPRM).

SUMMARY: This action proposes to amend two jet routes (J-65 and J-110), and three domestic VOR Federal airways (V-23, V-165, and V-230) in the western United States. These modifications are necessary due to the planned decommissioning of the Clovis, CA, VHF Omnidirectional Range (VOR) portion of the VOR/tactical air navigation (VORTAC) navigation aid (NAVAID), which provides navigation guidance for portions of the affected air traffic service (ATS) routes. The Clovis, CA, VOR is being decommissioned as part of the FAA's VOR Minimum Operational Network (MON) program.

DATES: Comments must be received on or before December 20, 2018.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2018-0713; Airspace Docket No. 18-AWP-10 at the beginning of your comments. You may also submit comments through the internet at http://www.regulations.gov.

FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11C at NARA, call (202) 741-6030, or go to https://www.archives.gov/federal-register/cfr/ibr-locations.html.

FAA Order 7400.11, Airspace Designations and Reporting Points, is published yearly and effective on September 15.

FOR FURTHER INFORMATION CONTACT: Kenneth Ready, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would support the route structure as necessary to preserve the safe and efficient flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify both docket numbers (FAA Docket No. FAA-2018-0713; Airspace Docket No. 18-AWP-10) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket No. FAA-2018-0713; Airspace Docket No. 18-AWP-10.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at http://www.regulations.gov. Recently published rulemaking documents can also be accessed through the FAA's web page at http://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Western Service Center, Operations Support Group, Federal Aviation Administration, 2200 South 216th Street, Des Moines, WA 98198.

Availability and Summary of Documents for Incorporation by Reference

This document proposes to amend FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

Background

The FAA is planning decommissioning activities for the Clovis, CA, VOR in 2019 as one of the candidate VORs identified for discontinuance by the FAA's VOR MON program and listed in the final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082. Although the VOR portion of the Clovis, CA, VORTAC NAVAID is planned for decommissioning, the tactical air navigation (TACAN) portion is being retained. The ATS routes effected by the Clovis VOR decommissioning are VOR Federal airways V-23, V-165, V-230 and jet routes J-65 and J-110.

With the planned decommissioning of the Clovis VOR, the remaining ground-based NAVAID coverage in the area is insufficient to enable the continuity of the affected airways. As such, proposed modifications to V-23, J-65, and J-110 would result in gaps in the route structures.

To overcome the gap in V-23, instrument flight rules (IFR) traffic could use adjacent VOR Federal airways V-113 and V-107 between the Modesto VOR/DME through Panoche VORTAC down to Avenal VOR/DME to the west and V-459 between Linden VOR/DME and Shafter VORTAC further east.

To overcome the gap in J-65, IFR traffic could use VOR Federal airways J-189 between the Linden VOR/DME and Avenal VOR/DME.

To overcome the loss of a portion of J-110, IFR traffic could file point to point from Oakland and then use Q-160 and Q-158 between the Clovis, VORTAC, decommissioned area and the Boulder City VORTAC area. Additionally, IFR traffic could file point to point through the affected area using fixes that will remain in place, or receive air traffic control (ATC) radar vectors through the area. Visual flight rules pilots who elect to navigate via the airways through the affected area could also take advantage of the adjacent VOR Federal airways or ATC services previously listed.

The Proposal

The FAA is proposing an amendment to Title 14 Code of Federal Regulations (14 CFR) part 71 by modifying jet routes (J-65 and J-110) and domestic VOR Federal airways (V-23, V-165 and V-230). The proposed route changes are outlined below.

J-65: J-65 currently extends between the San Antonio TX, VORTAC to the Seattle WA, VORTAC. The FAA would remove the segments between the Shafter, CA, VORTAC and the Sacramento, CA, VORTAC causing a gap in the route. The new route would stop at the Shafter, CA, VORTAC and resume at the Sacramento, CA, VORTAC. The unaffected portion of the existing route would remain as charted.

J-110: J-110 currently extends between the Oakland, CA, VOR/DME to the Coyle, NJ, VORTAC. The FAA would remove the segments between the Oakland, CA, VOR/DME and the Boulder City, NV, VORTAC. The route would now begin at the Boulder City, NV, VORTAC. The unaffected portion of the existing route would remain as charted.

V-23: V-23 currently extends between the Mission Bay CA, VORTAC and the Whatcom WA, VORTAC, and then to the Canadian border (approximately 7 miles northwest of the Whatcom WA, VORTAC). The FAA would amend the segment between the Shafter, CA, VORTAC and the Linden, CA, VOR/DME. The new route would stop at the FRAME intersection (INT Shafter 338°(T) 324°(M) and Panoche 096°(T) 080°(M) radials) and resume at the EBTUW intersection (INT Panoche 035°(T) 019°(M) and Linden 141°(T) 124°(M) radials) causing a gap in the route. The unaffected portion of the existing route would remain as charted.

V-165: V-165 currently extends between the Mission Bay, CA, VORTAC and the Whatcom WA, VORTAC. The FAA would amend the segment between the Tule, CA, VOR/DME and the Mustang, NV, VORTAC. The new route follows V-459 from the Tule, CA, VOR/DME to the Friant VORTAC and then to the DARBY intersection (INT Linden, CA 077°(T) 060°(M) and Mustang, NV, 183°(T) 167°(M) radials) which rejoins the original V-165 enroute to Mustang, NV, VORTAC. The unaffected portion of the existing route would remain as charted.

V-230: V-230 currently extends between the intersection of the Big Sur, CA, VORTAC 325° and the Salinas, CA, VORTAC 281° radials to the Mina, NV, VORTAC. The FAA will amend the segment between the Panoche, CA, VORTAC and the Friant, CA, VORTAC. The new route proceeds from the Panoche CA, VORTAC to the BLEAR intersection (Panoche 077°(T) 061°(M) and Friant 239°(T) 222°(M) radials) to the Friant VORTAC. The unaffected portion of the existing route would remain as charted.

Jet routes are published in paragraph 2004 and domestic VOR Federal airways in paragraph 6010 of FAA Order 7400.11C dated August 13, 2018, and effective September 15, 2018, which is incorporated by reference in 14 CFR 71.1. The jet routes and Domestic VOR Federal airways listed in this document will be subsequently published in the Order.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018 and effective September 15, 2018, is amended as follows:

Paragraph 2004 Jet Routes

J-65 [Amended]

From San Antonio, TX, INT San Antonio 323°(T) 315°(M) and Abilene, TX, 180°(T) 170°(M) radials; Abilene; Chisum, NM; Truth or Consequences, NM; Phoenix, AZ; INT Phoenix 272°(T) 259°(M) and Blythe, CA, 096°(T) 082°(M) radials; Blythe; Palmdale, CA; INT Palmdale 310°(T) 295°(M) and Shafter, CA, 140°(T) 126°(M) radials; to Shafter, CA. From Sacramento, CA; Red Bluff, CA; Klamath Falls, OR; to Seattle, WA.

* * * * *

J-110 [Amended]

From Boulder City, NV; Rattlesnake, NM; Alamosa, CO; Garden City, KS; Butler, MO; St. Louis, MO; Brickyard, IN; Bellaire, OH; to Coyle, NJ.

* * * * *

Paragraph 6010 Domestic VOR Federal Airways

V-23 [Amended]

From Mission Bay, CA; Oceanside, CA; 24 miles, 6 miles wide, Seal Beach, CA; 6 miles wide, INT Seal Beach 287°(T) 272°(M) and Los Angeles, 138°(T) 123 °(M) radials; Los Angeles; Gorman, CA; Shafter, CA; to INT Shafter 338°(T) 324°(M) and Panoche 096°(T) 080°(M) radials. From INT Panoche 035°(T) 019°(M) and Linden 141°(T) 124°(M) radials; Linden, CA; Sacramento, CA; INT Sacramento 346°(T) 329°(M) and Red Bluff, CA, 158°(T) 140°(M) radials; Red Bluff; 58 miles, 95 MSL, Fort Jones, CA; Rogue Valley, OR; Eugene, OR; Battle Ground, WA; INT Battle Ground 350°(T) 329°(M) and Seattle, WA, 197°(T) 178°(M) radials; 21 miles, 45 MSL, Seattle; Paine, WA; Whatcom, WA; via INT Whatcom 290°(T) 270°(M) radial to the United States/Canadian border.

* * * * *

V-165 [Amended]

From Mission Bay, CA; INT Mission Bay 270°(T) 255°(M) and Oceanside, CA, 177°(T) 162°(M) radials; Oceanside; 24 miles, 6 miles wide, Seal Beach, CA; 6 miles wide, INT Seal Beach 287°(T) 272°(M) ° and Los Angeles, CA, 138°(T) 123 (°M) radials; Los Angeles; INT Los Angeles 357°(T) 342°(M), and Lake Hughes, CA, 154°(T) 139°(M) radials; Lake Hughes; INT Lake Hughes 344°(T) 329°(M) and Shafter, CA, 137°(T) 123°(M) radials; Shafter; Tule, CA; Friant, CA; INT Linden, CA, 077°(T) 060°(M) and Mustang, NV, 183°(T) 167°(M) radials ; 72 miles, 50 miles, 131 MSL, Mustang, NV; 40 miles, 7 miles, 115 MSL, 54 miles, 135 MSL, 81 miles, Lakeview, OR; 5 miles, 72 miles, 90 MSL, Deschutes, OR; 16 miles, 19 miles, 95 MSL, 24 miles, 75 MSL, 12 miles, 65 MSL, Newberg, OR; 32 miles, 45 MSL, INT Newberg 355°(T) 334°(M) and Olympia, WA, 195°(T) 176°(M) radials; Olympia; Penn Cove, WA; to Whatcom, WA.

* * * * *

V-230 [Amended]

From INT Big Sur, CA, 325°(T) 309°(M) and Salinas, CA, 281°(T) 264°(M) radials; Salinas; Panoche, CA; INT Panoche 077°(T) 061°(M) and Friant 239°(T) 222°(M) radials; Friant, CA; to Mina, NV. The portion outside the United States has no upper limit.

Issued in Washington, DC, on October 29, 2018.
Rodger A. Dean Jr.,
Manager, Airspace Policy Group.

[FR Doc. 2018-23891 Filed 11-2-18; 8:45 am]

BILLING CODE 4910-13-P